OFFICE OF PERSONNEL MANAGEMENT

Solicitation of Federal Civilian and Uniformed Service Personnel for Contributions to Private Voluntary Organizations—CFC Pilot Program for Department of Defense (DoD) Personnel Deployed Overseas

AGENCY: Office of Personnel Management (OPM).

ACTION: Notice.

SUMMARY: The Office of Personnel Management (OPM) is implementing a Combined Federal Campaign (CFC) pilot program for a selected number of local campaigns. This pilot program will allow Department of Defense (DoD) personnel deployed to certain warfighting areas of responsibility the opportunity to expand their giving options to include the Morale, Welfare, and Recreation (MWR) activities and/or to the local charities located within the corresponding stateside campaign associated with their home base, in addition to the National and International charities. OPM will assess the results of the pilot program and determine, in coordination with the Office of the Secretary of Defense, if a permanent change should be made to CFC regulations and DoD Directive 5035-1.

DATES: The Office of Personnel Management's Office of CFC Operations (OCFCO) will work with the CFC Overseas (CFC-O) Campaign to determine the campaigns eligible to participate in the pilot program for the 2006 CFC no later than March 2006. The OCFCO will provide guidance to the selected campaigns on how to process receipts from the CFC-O Campaign under the pilot program no later than June 30, 2006. Affected deployed donors whose assigned home base is located within one of these selected campaigns will be provided the two additional options for contributing to the 2006 CFC described below beginning on September 1, 2006 and ending approximately December 15, 2006.

FOR FURTHER INFORMATION CONTACT: Mark W. Lambert, Senior Compliance Officer for the Office of CFC Operations, by telephone at (202) 606-2564; by Fax at (202) 606-0902; or by e-mail at cfc@opm.gov.

SUPPLEMENTARY INFORMATION: To address the loss of CFC contributions experienced by local organizations due to the deployment of DoD personnel to certain warfighting area of responsibility, DoD and OPM are implementing a one-year pilot program designed to allow those deployed DoD personnel to adjust their CFC contributions so the contributions can be designated to the donor's home base MWR activities and/or the local charities located within the corresponding stateside campaign associated with their home base, in addition to the National and International charities. In the absence of this pilot program, CFC regulations limit CFC designations from deployed DoD personnel to national/international charities, or to MWR activities overseas. This pilot program will expire at the end of the 2006 CFC or approximately December 15, 2006.

Under the pilot program, the CFC-O Campaign will offer affected deployed DoD personnel a modified CFC-O Campaign pledge card that will contain two added donation options, as follows:

(1) Each deployed employee may designate a portion of their donation to their home base's MWR activities; and/or, (2) Each deployed employee may elect to apply a portion of their total contribution as a designated contribution for distribution among all local charities located within the geographic area of their home base campaign.

OPM will evaluate the costs and logistics tied to the implementation of the new options in anticipation of making it a permanent change in the regulations.

These designated contributions will be distributed by CFC-O Campaign to the local campaign associated with the donor's home base as if the recipient campaign was a participating CFC-O Campaign charity, with the final payments in the distribution cycle sent early enough that the recipient campaign can include them in its final payment to charities. The home base campaign, in turn, will be directed to distribute these designated funds, at no cost, to all local charities in the same manner as local undesignated contributions (i.e. in the same proportion that each charity received designations in the local campaign). Home base campaigns will only need to adjust their distribution schedules and include these CFC-O Campaign contributions in their regular monthly/quarterly distributions to the local charities and track as cash received. Under this pilot program, donated funds will be reduced by the proportionate share of the CFC-O Campaign expenses only prior to distribution to the home base campaigns. Consequently, the home base campaigns will be directed not to charge additional processing costs to distribute these donations, since there is no additional cost associated with either the collection or distribution of the funds.

DoD personnel deployed to the affected warfighting areas of responsibility, regardless of the length of time, are officially assigned to the command to which they have been deployed. Therefore, personnel deployed to the affected warfighting areas of responsibility during the campaign season can only be solicited by the campaign responsible for the geographic area of the command. The exception to this rule is when a Navy ship has been deployed but is still considered “homeported.” In this instance, the local campaign should continue to solicit the donor stationed on the homeported ship.

CFC regulations at 5 CFR 950.701 state that the CFC-O Campaign is the only authorized campaign to solicit overseas areas during the CFC solicitation period in the fall. Under no circumstances may the stateside campaigns solicit personnel deployed overseas. Sanctions may result for violations of this rule.

Authority: E.O. 12353 (March 23, 1982), 47 FR 12785 (March 25, 1982). 3 CFR 1982 Comp., p. 139. E.O. 12404 (February 10, 1983), 48 FR 6685 (February 15, 1983), Pub. L 100-202, and Pub. L. 102-393 (5 U.S.C. 1101 Note).

U.S. Office of Personnel Management.
Dan G. Blair,
Deputy Director.

[FR Doc. E6-40 Filed 1-6-06; 8:45 am]

BILLING CODE 6325-46-P